ENVIRONMENTAL PROTECTION AGENCY

40 CFR Part 300

[FRL-7050-6]

National Oil and Hazardous Substance Pollution Contingency Plan; National Priorities List

AGENCY: Environmental Protection Agency.

ACTION: Direct final notice of deletion of the Alsco Anaconda Superfund Site from the National Priorities List.

SUMMARY: The Environmental Protection Agency (EPA), Region V is publishing a direct final notice of deletion of the Alsco Anaconda, Superfund Site (Site), located in Gnadenhutten, Ohio, from the National Priorities List (NPL).

The NPL, promulgated pursuant to section 105 of the Comprehensive Environmental Response, Compensation, and Liability Act (CERCLA) of 1980, as amended, is appendix B of 40 CFR part 300, which is the National Oil and Hazardous Substances Pollution Contingency Plan (NCP). This direct final deletion is being published by EPA with the concurrence of the State of Ohio, through the Ohio Environmental Protection Agency, because EPA has determined that all appropriate response actions under CERCLA have been completed and, therefore, further remedial action pursuant to CERCLA is not necessary at this time.

DATES: This direct final notice of deletion will be effective November 5, 2001 unless EPA receives adverse comments by October 9, 2001. If adverse comments are received, EPA will publish a timely withdrawal of the direct final notice of deletion in the Federal Register informing the public that the deletion will not take effect.

ADDRESSES: Comments may be mailed to: Rosauro del Rosario, Remedial Project Manager (RPM) at (312) 886-6195, DelRosario.Rosauro@EPA.Gov or Gladys Beard, State NPL Deletion Process Manager at (312) 886-7253, Beard.Gladys@EPA.Gov, U.S. EPA Region V, 77 W. Jackson, Chicago, IL 60604, (mail code: SR-6J) or at 1-800-621-8431.

Information Repositories: Comprehensive information about the Site is available for viewing and copying at the Site information repositories located at: EPA Region V Library, 77 W. Jackson, Chicago, IL 60604, (312) 353-5821, Monday through Friday 8 a.m. to 4 p.m.; Gnadenhutten Public Library, P.O. Box 216, 160 N. Walnut St., Gnadenhutten, OH 44629, (704) 254-9224, Monday through Thursday 9 a.m. to 8 p.m., Friday and Saturday 9 a.m. to 5 p.m.; Ohio Environmental Protection Agency-Southeast District Office, 2195 Front Street, Logan, Ohio 43138, (740) 385-8501, Monday through Friday, 8 a.m. to 5 p.m.

FOR FURTHER INFORMATION CONTACT: Rosauro del Rosario, Remedial Project Manager at (312) 886-6195, DelRosario.Rosauro@EPA.Gov or Gladys Beard, State NPL Deletion Process Manager at (312) 886-7253, Beard.Gladys@EPA.Gov or 1-800-621-8431, (SR-6J), U.S. EPA Region V, 77 W. Jackson, Chicago, IL 60604.

SUPPLEMENTARY INFORMATION:

Table of Contents

I. Introduction

II. NPL Deletion Criteria

III. Deletion Procedures

IV. Basis for Site Deletion

V. Deletion Action

I. Introduction

EPA Region V is publishing this direct final notice of deletion of the Alsco Anaconda, Superfund Site from the NPL.

The EPA identifies sites that appear to present a significant risk to public health or the environment and maintains the NPL as the list of those sites. As described in section 300.425(e)(3) of the NCP, sites deleted from the NPL remain eligible for remedial actions if conditions at a deleted site warrant such action.

Because EPA considers this action to be non-controversial and routine, EPA is taking it without prior publication of a notice of intent to delete. This action will be effective November 5, 2001 unless EPA receives adverse comments by October 9, 2001 on this document. If adverse comments are received within the 30-day public comment period on this document, EPA will publish a timely withdrawal of this direct final deletion before the effective date of the deletion and the deletion will not take effect. EPA will, as appropriate, prepare a response to comments and continue with the deletion process on the basis of the notice of intent to delete and the comments already received. There will be no additional opportunity to comment.

Section II of this document explains the criteria for deleting sites from the NPL. Section III discusses procedures that EPA is using for this action. Section IV discusses the Alsco Anaconda Superfund Site and demonstrates how it meets the deletion criteria. Section V discusses EPA's action to delete the Site from the NPL unless adverse comments are received during the public comment period.

II. NPL Deletion Criteria

Section 300.425(e) of the NCP provides that releases may be deleted from the NPL where no further response is appropriate. In making a determination to delete a release from the NPL, EPA shall consider, in consultation with the State, whether any of the following criteria have been met:

i. Responsible parties or other persons have implemented all appropriate response actions required;

ii. All appropriate Fund-financed (Hazardous Substance Superfund Response Trust Fund) responses under CERCLA have been implemented, and no further response action by responsible parties is appropriate; or

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c), requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without application of the hazard ranking system.

III. Deletion Procedures

The following procedures apply to deletion of this Site:

(1) The EPA consulted with Ohio on the deletion of the Site from the NPL prior to developing this direct final notice of deletion.

(2) Ohio concurred with deletion of the Site from the NPL.

(3) Concurrently with the publication of this direct final notice of deletion a notice of intent to delete is published today in the “Proposed Rules” section of the Federal Register, is being published in a major local newspaper of general circulation at or near the Site, and is being distributed to appropriate federal, state, and local government officials and other interested parties. The newspaper notice announces the 30-day public comment period concerning the notice of intent to delete the Site from the NPL.

(4) The EPA placed copies of documents supporting the deletion in the site information repositories identified above.

(5) If adverse comments are received within the 30-day public comment period on this document EPA will publish a timely notice of withdrawal of this direct final notice of deletion before its effective date and will prepare a response to comments and continue with a decision on the deletion based on the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions should future conditions warrant such actions.

IV. Basis for Site Deletion

The following information provides EPA's rationale for deleting this Site from the NPL:

Site Location

The Alsco Anaconda Superfund Site is located approximately 50 miles south of Akron, Ohio within the Gnadenhutten village limits. Gnadenhutten, a community of about 1,300 residents, is located within Clay Township in Tuscarawas County, along the floodplain of the Tuscarawas River. The site boundaries are the Penn-Central Railroad right-of-way, the AmeriMark manufacturing site, Anaconda Drive (County Road 39), and the Tuscarawas River on the northwest, northeast, southeast, and southwest, respectively. The approximately 4.8 acre site includes four (4) source areas formerly known as the settling basin (consisting of the northern and southern impoundments), the sludge pit, and the wooded area. The general vicinity of the site can be described as rural, characterized by farmland and sparse population. The nearest residence is southeast of the main plant, approximately 1,000 feet from the former source areas. Groundwater from the Site flows to the southwest toward and into the Tuscarawas River, away from local municipal wells located approximately 0.5 miles upgradient of the Site.

Site History

From, at least 1965 to 1978, the Site was used for the disposal of wastewater and wastewater treatment sludge that were generated by the production of aluminum products. These sludge met the RCRA definition of F019 hazardous wastes. The amount of sludge disposed was the equivalent of approximately 3,240 cubic square yards. The impoundments and sludge pit contained contaminants such as cyanide, chromium, polychorinated biphenyls (PCB)s, arsenic, cadmium, lead, mercury, and zinc. A wooded low-lying area near the Tuscarawas River received overflow from the impoundments. The wastewater was discharged to the river. After 1978, sludge was disposed of in an off-site facility, but the wastewater discharges continued to the impoundments.

Remedial Investigation and Feasibility Study (RI/FS)

The EPA conducted a preliminary assessment of the Site in 1983 in an effort to identify and characterize the contamination. The results of the assessment indicated the Site posed potential threats to human health and the environment through dermal contact with or ingestion of contaminated soil, sediments, ground water, and surface water, as well as through inhalation of airborne contaminated-particulate matter. These preliminary studies led the Atlantic Richfield Company (ARCO), one of the Potentially Responsible Party's (PRP's), to initiate a Remedial Investigation/Feasibility Study (RI/FS) in 1985. The Site was eventually added to the final NPL list on June 10, 1986, 51 FR 21054.

The Site was divided into two (2) operable units after EPA rejected the groundwater portion of Remedial Investigation Report prepared by ARCO in 1989. The 2 operable units have been designated as the Source Material Operable Unit (SMOU) and the Groundwater Operable Unit (GWOU).

Record of Decision Findings

Records of Decisions (RODs) were issued for the SMOU and GWOU on September 8, 1989 and September 28, 1992, respectively. To implement the selected remedies under the RODs, U.S. EPA issued unilateral administrative orders (UAOs) to the PRPs ARCO and Harvard Industries on December 28, 1989 for the SMOU after negotiations failed. A UAO to conduct GWOU remedial activities outlined in the ROD was issued to ARCO in June 23, 1993.

The remedial action objectives of the ROD for the SMOU were to excavate and treat address all contaminated waste sludges and underlying soils. The remedy selected to meet these objectives included; (1) excavation of contaminated soil with greater than 500 parts per million (ppm) of polychlorinated biphenyls (PCBs) and transportation off-site to a facility permitted to incinerate PCB waste; (2) excavation of remaining sludge and underlying soil, which included sludge contaminated with less than 500 ppm of PCBs, to levels meeting RCRA clean closure requirements. The material would then be sent for treatment and disposal to a facility in compliance with the CERCLA off-site policy or to a reclamation/reuse facility; and (3) backfill selected areas, and recontour and vegetate any excavated or cleared areas; maintain the present security fence; and record the notice of the remedial action with the property deed.

The selected remedy was designed to eliminate the principal threat posed by the Site by removing the contaminated materials, thereby reducing the potential for exposure to cyanide, PCBs, chromium, and the other contaminants detected in site sludge and soils. To achieve this, the ROD required that all sludges and underlying soils be removed to a depth that prevents the ingestion of or direct contact with waste having a cumulative Hazard Index (HI) value of one for noncarcinogens or having a 1×10−⁶ cumulative excess cancer risk for carcinogens. The ROD also required that all sludge and underlying spoil be removed such that further contamination to groundwater in excess of Maximum Contaminant Levels (MCLs) is prevented.

The remedial action objectives of the ROD for the GWOU were to address the contaminated on- and off-property groundwater at the Site. The underlying premise was that the chosen remedy for the SMOU would result in clean closure of the Site by removing the source of groundwater contamination. The remedy selected to meet these objectives included; (1) natural flushing and attenuation of contaminants in the aquifer allowing groundwater to discharge to the Tuscarawas River; (2) sampling and laboratory analysis of the groundwater from monitoring wells; (3) installation of background wells; (4) institutional controls, including deed restrictions, that prevent installation of drinking water wells within the Site boundaries until remedial action levels for groundwater has been achieved; and (5) sampling of Tuscarawas River sediments and benthic organisms.

Characterization of Remaining Risk

No additional response action(s) is required. Those areas associated with GWOU and SMOU have been adequately addressed by the response actions already taken. Alsco Anaconda meets all site completion requirements specified under OSWER Directive 9320.2-09A-P (Close Out Procedures for National Priorities List Sites). Current site conditions are protective of human health and the environment, both for the SMOU and the GWOU. Cleanup objectives set forth in the RODs for this site and in the UAOs have been achieved.

Response Actions

The final SMOU RD Report (entitled SMOU Closure Project Manual) was submitted on July 31, 1991. The RA contract was awarded on November 22, 1991. A final Remedial Action Plan, was submitted on February 28, 1992.

The RA construction for the SMOU began on March 18, 1992. The RA activities included excavation of the waste sludge and affected underlying soil from the northern and southern impoundments and the sludge pit (this material did not contain PCBs at levels above 50ppm), conditioning the material, and transporting it off-site to the Peoria Disposal Company in Peoria, Illinois, a RCRA-permitted facility. Excavation of the “hot” PCB material (e.g., material containing greater than 500 ppm PCBs) from the wooded area was completed, and the material was transported to Aptus, Inc., in Coffeyville, Kansas, and incinerated. The remaining wooded area sludge with F019 wastes and PCBs at levels from 50 to 500 ppm, was sent to a RCRA/TSCA facility, the Chemical Waste Management Landfill in Model City, New York. Debris and non-hazardous materials were sent to the Suburban RDF Landfill in Brownsville, Ohio.

During excavation, air quality was monitored and dust suppression measures were taken. Confirmation samples were also taken as work progressed to ensure that cleanup levels had been met. As areas were confirmed clean, backfilling and regrading of clean areas of the Site took place.

In the course of conducting the remedial action, it was found that the extent of contamination was much greater than had been anticipated in the RI/F and ROD. Different contamination was found (e.g., material contaminated with volatile organic compounds, often referred to in site documents as “black material,” as well as buried drums). Excavation of contaminated materials continued until December 1992, at which point ARCO stopped work.

The discovery of additional contamination described above resulted in ARCO conducting a Supplemental Investigation (SI) from September through November of 1993. Activities related to the SI included undertaking further characterization of the waste and conducting additional sampling of the drums uncovered and/or generated during the 1992 remedial actions. Also, further studies as to the extent of the remaining risk from the residual contamination were conducted by ARCO from September 12 through November 13, 1993. The SI Report describing the study results was first presented to the Agencies on March 17, 1994. With approval from EPA on how much additional excavation was required to meet risk based cleanup requirements, ARCO proceeded to complete the cleanup work by September 1995. These activities included excavation of three areas east of the SMOU, five within the SMOU, and much of the ARAN area. Additional backfilling and regrading of the Site also took place in 1995.

In June 1996, an Explanation of Significant Differences (ESD) was issued by EPA, documenting the volume increases and discovery of “black material” and buried drums.

In September 1998, U.S. EPA approved ARCO's RA Implementation Report for the SMOU, first submitted in 1992 and subsequently modified over the intervening years, documenting that all remedial action activities associated with the SMOU had been completed.

The RA for the GWOU could not begin until the contaminated source material had been removed since it was not practical to install wells which might need to be abandoned during the additional SMOU excavation activities. Monitoring well installation activities were conducted from August 21, 1995, through September 13, 1995. Activities involved in the GWOU RA included installation of 6 shallow and 5 intermediate depth monitoring wells, 2 shallow and 1 intermediate depth background wells, abandonment of 3 existing monitoring wells, establishment of a bench mark to measure river levels, surveying of the well locations, and development of the wells.

ARCO has conducted fifteen (15) rounds of groundwater surveys, overseen by EPA and OEPA. With the exception of cyanide and arsenic, contaminants of interest established for this site have been meeting their respective cleanup criteria since 1999. The last three rounds of monitoring (May, August, and October of 2000) indicated that cyanide and arsenic have now achieved cleanup goals.

Cleanup Standards

In the ROD and UAO groundwater was to be monitored until cleanup standards were met. The cleanup standards were risk-based as follows: concentrations of site-related contaminants that also appear in background wells shall be reduced to their respective background concentrations, unless one of the following conditions results in a higher cleanup concentration. In no case shall contaminant concentrations be required to be reduced below background concentrations. Site-related contaminants with an existing MCL shall be reduced to a concentration at or below the MCL. Carcinogenic site-related contaminants shall be reduced to levels that pose a cumulative carcinogenic risk of no greater than 1×10⁻⁶. Concentrations of noncarcinogenic site-related contaminants shall be reduced to levels that pose a cumulative HI no greater than one for any specific toxicological category.

Operation and Maintenance

Operation and maintenance (O &M) plans developed and implemented for this site have been sufficient to maintain effectiveness of the remedy. The O & M work required for the Site consisted of maintaining the gate and fence which surrounds the Site in order to prevent unauthorized entry. Excavation and off-site disposal of site contaminants to levels that met RCRA clean closure requirements were completed in 1995, therefore, additional O & M measures were not needed. For the GWOU, O & M involved groundwater monitoring. Now that cleanup standards have been met, there is no further need to continue this work. In addition, institutional controls implemented for this site have prevented the potentially affected population from being exposed to hazards posed by the during Site remediation activities. Now that clean-up standards have been met these institutional controls are no longer necessary.

Five-Year Review

A five-year review of the GWOU was conducted by Region 5 in the summer of 1997. The report recommended that groundwater monitoring continue until cleanup standards for all site related contaminants were met. Now that cleanup standards have been met, the need to conduct another five-year review, scheduled for 2002, is no longer necessary. The site is available for unlimited use and unrestriced exposure, therefore, another Five-Year review is no longer necessary.

Community Involvement

Public participation activities have been satisfied as required in CERCLA section 113(k), 42 U.S.C. 9613(k), and CERCLA section 117, 42 U.S.C. 9617. Documents in the deletion docket which EPA relied on for recommendation of the deletion on this Site from the NPL are available to the public in the information repositories.

V. Deletion Action

The EPA, with concurrence of the State of Ohio, has determined that all appropriate responses under CERCLA have been completed, and that no further response actions, under CERCLA are necessary. Therefore, EPA is deleting the Site from the NPL.

Because EPA considers this action to be non-controversial and routine, EPA is taking it without prior publication. This action will be effective November 5, 2001 unless EPA receives adverse comments by October 9, 2001. If adverse comments are received within the 30-day public comment period, EPA will publish a timely withdrawal of this direct final notice of deletion before the effective date of the deletion and it will not take effect. EPA will prepare a response to comments and as appropriate continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: August 28, 2001.
Norman Niedergang,
Acting Regional Administrator, Region V.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of Appendix B to Part 300 is amended under Ohio “OH” by removing the entry for “Alsco Anaconda” and the city “Gnadenhutten.”

[FR Doc. 01-22368 Filed 9-5-01; 8:45 am]

BILLING CODE 6560-50-P